DEPARTMENT OF TRANSPORTATION

Federal Transit Administration

[FTA Docket No. 2007-29111]

Agency Information Collection Activity Under OMB Review

AGENCY: Federal Transit Administration, DOT.

ACTION: Notice of request for comments.

SUMMARY: The Federal Transit Administration invites public comments about our intention to request the Office of Management and Budget's (OMB) approval to renew the following information collection: 49 U.S.C. 5335(a) and (b) National Transit Database. The information to be collected will be used to accumulate mass transportation financial and operating information using a uniform system of accounts and records. The Federal Register Notice with a 60-day comment period soliciting comments was published on June 27, 2007.

DATES: Comments must be submitted before October 5, 2007. A comment to OMB is most effective if OMB receives it within 30 days of publication.

FOR FURTHER INFORMATION CONTACT: Sylvia L. Marion, Office of Administration, Office of Management Planning, (202) 366-6680.

SUPPLEMENTARY INFORMATION: Title: 49 U.S.C. 5335(a) and (b) National Transit Database (OMB Number: 2132-0008).

Abstract: Title 49 U.S.C. 5335(a) and (b) requires the Secretary of Transportation to maintain a reporting system by uniform categories to accumulate mass transportation financial and operating information using a uniform system of accounts and records. Congress created the NTD to be the repository of transit data for the nation, on which to base public transportation service planning. Section 3033 of SAFETEA-LU amended 49 U.S.C. 5335 to require recipients of 49 U.S.C. 5311 grants to submit an annual report containing total annual revenue; sources of revenue; total annual operating costs; total annual capital costs; fleet size and type; and related facilities: revenue vehicle miles and ridership. The addition of this requirement for recipients of 49 U.S.C. section 5311 does not affect the existing NTD data collection from urbanized area agencies, including the mandatory NTD reporting requirement for recipients of 49 U.S.C. section 5307 grants (Urbanized Area Formula grants).

FTA will not require these smaller rural agencies to submit the same level of detail to the NTD as a system in an urbanized area. FTA will only require the State Department of Transportation (DOT) to submit a one-page form for each rural agency in the State that is the recipient or beneficiary of grants under 49 U.S.C. 5311. Most State DOTs already produce reports for their State legislatures with this summary data. Additionally, FTA will require each State DOT to report the number of counties in the State that are served by recipients of grants under 49 U.S.C. 5311. For purposes of this data collection, Puerto Rico, American Samoa, Guam, and the Commonwealth of the Northern Mariana Islands will report as States (by 49 U.S.C. 5307(1)). The U.S. Virgin Islands is an urbanized area for purposes of FTA grantmaking and does not receive grants under 49 U.S.C. section 5311. Additionally, FTA will require this report from federally-recognized Native American tribes that are direct recipients of grants under 49 U.S.C. 5311 and whose information is not included in a report of a State DOT. The reporting requirements for this program have been developed after years of consultation with State DOTs and rural transit agencies.

On November 30, 2005, FTA published in the Federal Register (70 FR 71950, November 30, 2005) the procedures and start dates for mandatory annual reporting that State DOTs must follow when submitting rural transit data to FTA. The rural transit data reporting procedures are specified in the Rural NTD Module Reporting Manual which contains detailed reporting instructions for this data collection. It can be reviewed on the NTD Web site at http://www.ntdprogram.gov and will be submitted for notice and comment in a future Federal Register announcement. For 2006, many States have reported data to the NTD for approximately 1,600 rural systems under a voluntary pilot program. The majority of States reported all of their data without any formal training.

FTA is requesting a revision of the currently approved NTD information collection (OMB Control Number 2132-0008) to include the addition of rural reporting.

Estimated Total Annual Burden: 230,700 hours.

ADDRESSES: All written comments must refer to the docket number that appears at the top of this document and be submitted to the Office of Information and Regulatory Affairs, Office of Management and Budget, 725 17th Street, NW., Washington, DC 20503, Attention: FTA Desk Officer.

Comments Are Invited On: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

Issued: August 29, 2007.
Ann M. Linnertz,
Associate Administrator for Administration.

[FR Doc. E7-17461 Filed 9-4-07; 8:45 am]

BILLING CODE 4910-57-P